DEPARTMENT OF COMMERCE

National Institute of Standards and Technology

Visiting Committee on Advanced Technology

AGENCY: National Institute of Standards and Technology Department of Commerce.

ACTION: Notice of partially closed meeting.

SUMMARY: Pursuant to the Federal Advisory Committee Act, 5 U.S.C. app. 2, notice is hereby given that the Visiting Committee on Advanced Technology, National Institute of Standards and Technology (NIST), will meet Tuesday, December 10, 2002, from 8:25 a.m. to 5:30 p.m. and Wednesday, December 11, 2002, from 8 a.m. to Noon. The Visiting Committee on Advanced Technology is composed of twelve members appointed by the Director of NIST; who are eminent in such fields as business, research, new product development, engineering, labor, education, management consulting, environment, and international relations. The purpose of this meeting is to review and make recommendations regarding general policy for the Institute, its organization, its budget, and its programs within the framework of applicable national policies as set forth by the President and the Congress. The agenda will include a NIST Update; an Update on Near-Term Strategic Environment; NIST 2010 Implementation—Cross-cutting Themes from OU Operational Plan Reviews and Results of Initial Planning Review Sessions on Nanotechnology and Homeland Security and a tour of the Advanced Measurement Laboratory. Discussions scheduled to begin at 2:45 p.m. and to end at 5:30 p.m. on December 10, 2002, and to begin at 8 a.m. and to end at Noon on December 11, 2002, on the NIST budget, personnel issues, planning information and feedback sessions will be closed. Agenda may change to accommodate Committee business. Final agenda will be posted on website. All visitors to the National Institute of Standards and Technology site will have to pre-register to be admitted. Please submit your name, time of arrival, email address and phone number to Carolyn Peters no later than Thursday, December 5, 2002, and she will provide you with instructions for admittance. Mrs. Peter's email address is carolyn.peters@nist.gov and her phone number is (301) 975-5607.

DATES: The meeting will convene December 10, 2002 at 8:25 a.m. and will adjourn at Noon on December 11, 2002.

ADDRESSES: The meeting will be held in the Employees Lounge, Administration Building, at NIST, Gaithersburg, Maryland. Please note admittance instructions under SUMMARY paragraph.

FOR FURTHER INFORMATION CONTACT: Carolyn J. Peters, Visiting Committee on Advanced Technology, National Institute of Standards and Technology, Gaithersburg, Maryland 20899-1004, telephone number (301) 975-5607.

SUPPLEMENTARY INFORMATION: The Assistant Secretary for Administration, with the concurrence of the General Counsel, formally determined on January 16, 2002, that portions of the meeting of the Visiting Committee on Advanced Technology which involve discussion of proposed funding levels of the Advanced Technology Program and the Manufacturing Extension Partnership Program may be closed in accordance with 5 U.S.C. 552b(c)(9)(B), because those portions of the meetings will divulge matters the premature disclosure of which would be likely to significantly frustrate implementation of proposed agency actions; and that portions of meetings which involve discussion of the staffing issues of management and other positions at NIST may be closed in accordance with 5 U.S.C. 552b(c)(6), because divulging information discussed in those portions of the meetings is likely to reveal information of a personal nature where disclosure would constitute a clearly unwarranted invasion of personal privacy.

Dated: November 20, 2002.
Karen H. Brown,
Deputy Director.

[FR Doc. 02-30137 Filed 11-26-02; 8:45 am]

BILLING CODE 3510-13-P